DEPARTMENT OF THE TREASURY

Internal Revenue Service

26 CFR Part 1

[TD 9452]

RIN 1545-BB28

Application of Separate Limitations to Dividends From Noncontrolled Section 902 Corporations; Correction

AGENCY: Internal Revenue Service (IRS), Treasury.

ACTION: Correcting amendment.

SUMMARY: This document contains corrections to final regulations (TD 9452) that were published in the Federal Register on Thursday, June 11, 2009, regarding the application of separate foreign tax credit limitations to dividends received from noncontrolled section 902 corporations.

DATES: This correction is effective on September 22, 2009 and is applicable in taxable years ending on or after April 20, 2009.

FOR FURTHER INFORMATION CONTACT: Richard Chewning, (202) 622-3850 (not a toll-free number).

SUPPLEMENTARY INFORMATION:

Background

The final regulations that are the subject of this document are under section 964 of the Internal Revenue Code.

Need for Correction

As published on Thursday, June 11, 2009 (74 FR 27886), the final regulations (TD 9452) contain errors that may prove to be misleading and are in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

Par. 2. Section 1.964-1 is amended by revising the last sentence of paragraph (c)(2) and paragraph (c)(4)(i)(D) to read as follows:

§ 1.964-1 Determination of the earnings and profits of a foreign corporation.

* * * * *

(c) * * *

(2) * * * See also §§ 1.985-5, 1.985-6, and 1.985-7 relating to adjustments to earnings and profits of a QBU required when the QBU changes its functional currency or begins to use the dollar approximate separate transactions method of accounting.

(4) * * *

(i) * * *

(D) Whether the domestic shareholder received the written notice required by paragraph (c)(3)(iii) of this section.

* * * * *

LaNita VanDyke,
Chief, Publications and Regulations Branch, Legal Processing Division, Associate Chief Counsel, (Procedure and Administration).

[FR Doc. E9-22694 Filed 9-21-09; 8:45 am]

BILLING CODE 4830-01-P